DEPARTMENT OF TRANSPORTATION

Surface Transportation Board

[STB Finance Docket No. 34103]

New Mexico Gateway Railroad Limited Liability Company-Operation Exemption—Santa Teresa Limited Partnership

New Mexico Gateway Railroad Limited Liability Company, a noncarrier, has filed a verified notice of exemption under 49 CFR 1150.31 to operate approximately 3.5 miles of rail line owned by Santa Teresa Limited Partnership, at Santa Teresa, NM, as follows: (1) A 4,412-foot spur identified as Track A; (2) a 3,375-foot spur identified as Track B; (3) a 3,884-foot spur identified as Track C; (4) a 4,338-foot spur identified as Track D; and (5) a 2,728-foot runaround track.¹

¹ Applicant states that the actual right-of-way occupied by the tracks is approximately 3700 feet or .70 miles in length.

The transaction was expected to be consummated on or about October 15, 2001.

If the notice contains false or misleading information, the exemption is void ab initio. Petitions to revoke the exemption under 49 U.S.C. 10502(d) may be filed at any time. The filing of a petition to revoke will not automatically stay the transaction.

An original and 10 copies of all pleadings, referring to STB Finance Docket No. 34103, must be filed with the Surface Transportation Board, Office of the Secretary, Case Control Unit, 1925 K Street, NW., Washington, DC 20423-0001. In addition, a copy of each pleading must be served on John D. Heffner, 555 Twelfth Street, NW., Washington, DC 20004.

Board decisions and notices are available on our website at “WWW.STB.DOT.GOV.”

Decided: October 18, 2001.
By the Board, David M. Konschnik, Director, Office of Proceedings.
Vernon A. Williams,
Secretary.

[FR Doc. 01-26907 Filed 10-26-01; 8:45 am]

BILLING CODE 4915-00-P